DEPARTMENT OF ENERGY

Federal Energy Regulatory Commission

[Project No. 2701-061]

Erie Boulevard Hydropower, L.P.; Notice of Revised Procedural Schedule for Final Environmental Assessment for the Proposed Project Relicense

On February 26, 2021, Erie Boulevard Hydropower, L.P. filed an application for a new major license to continue to operate and maintain the 39.75-megawatt (MW) West Canada Creek Hydroelectric Project No. 2701 (West Canada Creek Project). On June 27, 2022, Commission staff issued a notice of intent to prepare a draft and final Environmental Assessment (EA) to evaluate the effects of relicensing the West Canada Creek Project. The notice of intent included a schedule for preparing a draft and final EA.

On September 6, 2023, Commission staff issued the draft EA. By this notice, Commission staff is updating the procedural schedule for completing a final EA. The revised schedule is shown below. Further revisions to the schedule may be made as appropriate.

Milestone | Target date
Issue Final EA | March 2024.

Any questions regarding this notice may be directed to Laurie Bauer at (202) 502-6519, or by email at laurie.bauer@ferc.gov.

Dated: September 21, 2023.
Debbie-Anne A. Reese,
Deputy Secretary.

[FR Doc. 2023-21111 Filed 9-26-23; 8:45 am]

BILLING CODE 6717-01-P